ENVIRONMENTAL PROTECTION AGENCY

40 CFR Part 52

[EPA-R10-OAR-2007-0110; FRL-8456-3]

Approval and Promulgation of Implementation Plans; Idaho and Washington; Interstate Transport of Pollution; Withdrawal of Direct Final Rule

AGENCY: Environmental Protection Agency (EPA).

ACTION: Withdrawal of direct final rule.

SUMMARY: Due to an adverse comment, EPA is withdrawing the June 26, 2007 direct final rule (72 FR 35015) to approve the actions of the Idaho Department of Environmental Quality (IDEQ) and the Washington State Department of Ecology (Ecology) to address the provisions of the Clean Air Act section 110(a)(2)(D)(i) for the 8-hour ozone and PM2.5 National Ambient Air Quality Standards (NAAQS). In the June 26, 2007 direct final rule, we stated that if we received adverse comments by July 26, 2007, EPA would publish a timely withdrawal in the Federal Register informing the public that the rule would not take effect. EPA subsequently received adverse comment on that direct final rule. EPA will address all comments received in a subsequent final action based upon the proposed action also published on June 26, 2007 (72 FR 35022). EPA will not institute a second comment period on this document.

DATES: Effective Date: The direct final rule published on June 26, 2007 (72 FR 35015) is withdrawn as of August 17, 2007.

FOR FURTHER INFORMATION CONTACT: Claudia Vaupel, Office of Air, Waste and Toxics (AWT-107), EPA Region 10, 1200 Sixth Avenue, Seattle, WA 98101; telephone number: (206) 553-6121; fax number: (206) 553-0110; e-mail address: vaupel.claudia@epa.gov.

SUPPLEMENTARY INFORMATION: See the information provided in the direct final rule published in the Federal Register on June 26, 2007 (72 FR 35015).

List of Subjects in 40 CFR Part 52

Environmental protection, Air pollution control, Incorporation by reference, Intergovernmental relations, Nitrogen dioxide, Ozone, Particulate matter, Reporting and recordkeeping requirements, Sulfur oxides, Volatile organic compounds.

Dated: August 9, 2007.
Julie M. Hagensen,
Acting Regional Administrator, Region 10.

Accordingly, the amendments to 40 CFR 52.670(e) and 52.2470(c)(89) published in the Federal Register on June 26, 2007 (72 FR 35015) which were to become effective on August 27, 2007 are withdrawn.

[FR Doc. E7-16217 Filed 8-16-07; 8:45 am]

BILLING CODE 6560-50-P